DEPARTMENT OF HOMELAND SECURITY

Federal Emergency Management Agency

[Docket ID FEMA-2022-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of May 9, 2023 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Federal Emergency Management Agency, Department of Homeland Security.

Community | Community map repository address
Georgetown County, South Carolina and Incorporated Areas
Docket Nos.: FEMA-B-2004 and 2208
City of Georgetown | City Hall, 1134 North Fraser Street, Georgetown, SC 29440.
Town of Andrews | City Hall, 101 North Morgan Avenue, Andrews, SC 29510.
Town of Pawleys Island | Town Hall, 323 Myrtle Avenue, Pawleys Island, SC 29585
Unincorporated Areas of Georgetown County | Georgetown County Courthouse, Building Division and Permits, 129 Screven Street, Room 249, Georgetown, SC 29440.
Cannon County, Tennessee and Incorporated Areas
Docket No.: FEMA-B-2110
Town of Woodbury | Town Hall, 101 West Water Street, Woodbury, TN 37190.
Unincorporated Areas of Cannon County | Cannon County Court House, 200 West Main Street, Woodbury, TN 37190.
Rutherford County, Tennessee and Incorporated Areas
Docket No.: FEMA-B-2110
City of La Vergne | Planning and Codes Department, 5175 Murfreesboro Road, La Vergne, TN 37086.
City of Murfreesboro | City Hall, 111 West Vine Street, Murfreesboro, TN 37130.
Town of Smyrna | Town Hall, 315 South Lowry Street, Smyrna, TN 37167.
Unincorporated Areas of Rutherford County | Rutherford County Planning Department, 1 South Public Square, Room 200, Murfreesboro, TN 37130.
Wilson County, Tennessee and Incorporated Areas
Docket No.: FEMA-B-2110
City of Mt. Juliet | City Hall, 2425 North Mount Juliet Road, Mt. Juliet, TN 37122.
Unincorporated Areas of Wilson County | Wilson County Court House, Planning Office, 228 East Main Street, Room 5, Lebanon, TN 37087.
Bastrop County, Texas and Incorporated Areas
Docket No.: FEMA-B-2149
City of Bastrop | City Hall, 1311 Chestnut Street, Bastrop, TX 78602.
City of Smithville | City Hall, 317 Main Street, Smithville, TX 78957.
Unincorporated Areas of Bastrop County | Bastrop County Development Services, 211 Jackson Street, Bastrop, TX 78602.
King William County, Virginia and Incorporated Areas
Docket No.: FEMA-B-2184
Town of West Point | Town Hall, 802 Main Street, West Point, Virginia, 23181.
Unincorporated Areas of King William County | King William County Administration Building, Planning and Zoning Department, 180 Horse Landing Road, King William, Virginia 23086
Spotsylvania County, Virginia (All Jurisdictions)
Docket Nos.: FEMA-B-2057 and 2189
Unincorporated Areas of Spotsylvania County | Spotsylvania County Planning and Zoning Department, 9019 Old Battlefield Boulevard, Suite 100, Spotsylvania, VA 22553.
Pendleton County, West Virginia and Incorporated Areas
Docket No.: FEMA-B-2191
Town of Franklin | Town Office, 305 North High Street, Franklin, WV 26807.
Unincorporated Areas of Pendleton County | Pendleton County Courthouse, 100 South Main Street, Franklin, WV 26807.
Brown County, Wisconsin and Incorporated Areas
Docket No.: FEMA-B-2151
City of De Pere | City Hall, 335 South Broadway, De Pere, Wisconsin 54115.
City of Green Bay | City Hall, 100 North Jefferson Street, Green Bay, Wisconsin 54301.
Unincorporated Areas of Brown County | Brown County Office, Northern Building, 305 East Walnut Street, Room 320, Green Bay, Wisconsin 54301.
Village of Allouez | Brown County Office, Northern Building, 305 East Walnut Street, Room 320, Green Bay, Wisconsin 54301.
Village of Ashwaubenon | Village Hall, 2155 Holmgren Way, Ashwaubenon, Wisconsin 54304.
Village of Howard | Village Hall, 2456 Glendale Avenue, Howard, Wisconsin 54313.
Village of Suamico | Municipal Services Center, 12781 Velp Avenue, Suamico, Wisconsin 54313.

[FR Doc. 2022-26876 Filed 12-9-22; 8:45 am]

BILLING CODE 9110-12-P